DEPARTMENT OF TRANSPORTATION

Office of the Secretary

Notice of Applications for Certificates of Public Convenience and Necessity and Foreign Air Carrier Permits Filed Under Subpart B (Formerly Subpart Q) During the Week Ending May 24, 2014

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1996-2008.

Date Filed: May 21, 2014.

Due Date for Answers, Conforming Applications, or Motion to Modify Scope: June 11, 2014.

Description: Application of China Southern Airlines Company Limited (“China Southern ”) requesting exemption authority and an amended foreign air carrier permit authorizing China Southern to engage in scheduled foreign air transportation of persons, property and mail between Guangzhou, People's Republic of China and New York, NY.

Docket Number: DOT- OST-2014-0080.

Date Filed: May 22, 2014.

Due Date for Answers, Conforming Applications, or Motion to Modify Scope: June 12, 2014.

Description: Application of Eurofly Service S.p.A. (“Eurofly Service”) requesting a foreign air carrier permit to the full extent authorized by the Air Transport Agreement between the United States and the European Community and the Member States of the European Community to enable it to engage in: (i) Charter foreign air transportation of persons and property from any point or points behind any Member State of the European Union via any point or points in any Member State and via intermediate points to any point or points in the United States and beyond; (ii) foreign charter air transportation of persons and property between any point or points in the United States and any point or points in any member of the European Common Aviation Area; (iii) charter transportation consistent with any future, additional rights that may be granted to foreign air carriers of the Member States of the European Union; (iv) other charter services pursuant to the prior approval requirements. Eurofly Service further requests exemption authority to the extent necessary to enable it to provide the services described above pending issuance of a foreign air carrier permit and such additional or other relief as the Department may deem necessary or appropriate.

Cheryl F. Collins,
Docket Manager, Docket Operations, Federal Register Liaison.

[FR Doc. 2014-13984 Filed 6-13-14; 8:45 am]

BILLING CODE 4910-9X-P